DEPARTMENT OF TRANSPORTATION

Surface Transportation Board

[STB Docket No. AB-33 (Sub-No. 220X)]

Union Pacific Railroad Company—Abandonment Exemption-in Brown and Doniphan Counties, KS

On September 13, 2004, Union Pacific Railroad Company (UP) filed with the Surface Transportation Board a petition under 49 U.S.C. 10502 for exemption from the provisions of 49 U.S.C. 10903 to abandon a line of railroad known as the St. Joseph Industrial Lead, extending from milepost 2.52 near Elwood to milepost 33.60 near Robinson, a distance of 30.98 miles in Brown and Doniphan Counties, KS (13.9 = 14.0).¹ The line traverses United States Postal Service ZIP Codes 66024, 66087, 66090, 66434, and 66532, and includes no stations.

¹ On September 22, 2004, UP submitted a clarification to the milepost equation. UP states that, prior to 1934, the Chicago Pacific Rock Island Railroad (RIRR) and the St. Joseph and Grand Island Railway (SJ&GI), a subsidiary of UP, shared the rail line running from St. Joseph, MO, crossing the Missouri River, and extending through Wathena, KS. UP indicates that west of Wathena, at milepost 7.4, the two railroads split. In 1934, UP ceased using its line between milepost 7.4 and Troy, KS, as a separate route, and substituted via trackage rights the route over the RIRR. UP then returned to its own rail line and, rather than re-milepost the entire balance of the SJ&GI, UP did an equation so it could retain the rest of the SJ&GI mileposts as they were. UP further states that to correct for the milepost shift, UP placed the milepost equation at Troy, and then the traditional SJ&GI mileposts ran from that point.

The line does not contain federally granted rights-of-way. Any documentation in UP's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by December 30, 2004.

Any offer of financial assistance (OFA) under 49 CFR 1152.27(b)(2) will be due no later than 10 days after service of a decision granting the petition for exemption. Each OFA must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 21, 2004. Each trail use request must be accompanied by a $200 filing fee. See 49 CFR 1002.2(f)(27).

All filings in response to this notice must refer to STB Docket No. AB-33 (Sub-No. 220X) and must be sent to: (1) Surface Transportation Board, 1925 K Street, NW., Washington, DC 20423-0001, and (2) Mack H. Shumate, Jr., 101 North Wacker Drive, Room 1920, Chicago, IL 60606. Replies to the UP petition are due on or before October 21, 2004.

Persons seeking further information concerning abandonment procedures may contact the Board's Office of Public Services at (202) 565-1592 or refer to the full abandonment or discontinuance regulations at 49 CFR part 1152. Questions concerning environmental issues may be directed to the Board's Section of Environmental Analysis (SEA) at (202) 565-1539. (Assistance for the hearing impaired is available through the Federal Information Relay Service (FIRS) at 1-800-877-8339.)

An environmental assessment (EA) (or environmental impact statement (EIS), if necessary), prepared by SEA, will be served upon all parties of record and upon any agencies or other persons who commented during its preparation. Other interested persons may contact SEA to obtain a copy of the EA (or EIS). EAs in these abandonment proceedings normally will be available within 60 days of the filing of the petition. The deadline for submission of comments on the EA will generally be within 30 days of its service.

Board decisions and notices are available on our Web site at http://www.stb.dot.gov.

Decided: September 24, 2004.
By the Board, David M. Konschnik, Director, Office of Proceedings.
Vernon A. Williams,
Secretary.

[FR Doc. 04-21983 Filed 9-30-04; 8:45 am]

BILLING CODE 4915-01-P